ENVIRONMENTAL PROTECTION AGENCY

40 CFR Part 721

[EPA-HQ-OPPT-EPA-HQ-OPPT-2014-0760; FRL-9923-25]

RIN 2070-AB27

Proposed Significant New Use Rule on Certain Chemical Substances; Extension of Comment Period

AGENCY: Environmental Protection Agency (EPA).

ACTION: Proposed rule; extension of comment period.

SUMMARY: EPA issued a proposed rule in the Federal Register of January 7, 2015, concerning proposed significant new use rules for 13 chemical substances which were the subject of premanufacture notices (PMNs). This document extends the comment period for 45 days, from March 9, 2015 to April 23, 2015. Multiple commenters requested additional time to research and submit more detailed comments concerning the proposed SNURs. EPA is therefore extending the comment period in order to give all interested persons the opportunity to comment fully.

DATES: The comment period for the proposed rule published on January 7, 2015 (80 FR 845) is extended. Comments, identified by docket identification (ID) number EPA-HQ-OPPT-2014-0760 must be received on or before April 23, 2015.

ADDRESSES: Follow the detailed instructions provided under ADDRESSES in the Federal Register document of January 7, 2015 (80 FR 845) (FRL-9919-23).

FOR FURTHER INFORMATION CONTACT: For technical information contact: Kenneth Moss, Chemical Control Division, Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register proposed rule of January 7, 2015. In that document, EPA proposed significant new use rules for 13 chemical substances which were the subject of premanufacture notices (PMNs). EPA is hereby extending the comment period, which was set to end on March 9, 2015, to April 23, 2015.

To submit comments, or access the docket, please follow the detailed instructions provided under ADDRESSES in the Federal Register proposed rule of January 7, 2015. If you have questions, consult the technical person listed under FOR FURTHER INFORMATION CONTACT.

List of Subjects in 40 CFR Part 721

Environmental protection, Chemicals, Hazardous substances, Reporting and recordkeeping requirements.

Dated: February 20, 2015.
Maria J. Doa,
Director, Chemical Control Division, Office of Pollution Prevention and Toxics.

[FR Doc. 2015-04406 Filed 3-2-15; 8:45 am]

BILLING CODE 6560-50-P